OFFICE OF PERSONNEL MANAGEMENT

Submission for Review: Combined Federal Campaign Annuitant Pledge Form, OPM Form 1654-B

AGENCY: U.S. Office of Personnel Management.

ACTION: 60-Day notice and request for comments.

SUMMARY: The Office of Combined Federal Campaign (OCFC), Office of Personnel Management (OPM) offers the general public and other federal agencies the opportunity to comment on the implementation of a new information collection request, Combined Federal Campaign Annuitant Pledge Form, which include OPM Form 1654-B.

DATES: Comments are encouraged and will be accepted until October 23, 2017.

ADDRESSES: Interested persons are invited to submit written comments on the proposed information collection to the U.S. Office of Personnel Management, Office of Combined Federal Campaign, 1900 E Street NW., Room 6464, Washington, DC 20415, Attention: Marcus Glasgow or sent via electronic mail to cfc@opm.gov.

FOR FURTHER INFORMATION CONTACT: A copy of this ICR, with applicable supporting documentation, may be obtained by contacting the U.S. Office of Personnel Management, Office of Combined Federal Campaign, 1900 E Street NW., Room 6484, Washington, DC 20415, Attention: Marcus Glasgow or sent via electronic mail to cfc@opm.gov.

SUPPLEMENTARY INFORMATION: As required by the Paperwork Reduction Act of 1995, (Pub. L. 104-13, 44 U.S.C. chapter 35) as amended by the Clinger-Cohen Act (Pub. L. 104-106), OPM is soliciting comments for this collection. The Office of Personnel Management is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Combined Federal Campaign (CFC) is the world's largest and most successful annual workplace philanthropic giving campaign. The mission of the CFC is to promote and support philanthropy through a program that is employee-focused, cost-efficient, and effective in providing all federal employees the opportunity to improve the quality of life for all. With the signing of Executive Order 13743 on October 13, 2016, authorizing the solicitation of federal annuitants, the Combined Federal Campaign Annuitant Pledge Form will be used to collect and process federal annuitant and military retirees' pledges through the Combined Federal Campaign.

Analysis

Agency: Office of Combined Federal Campaign, Office of Personnel Management.

Title: OPM Form 1654-B.

OMB Number: OMB Control No. 3206-NEW.

Frequency: Annually.

Affected Public: Individuals or Households.

Number of Respondents: 250,000.

Estimated Time per Respondent: 30 minutes.

Total Burden Hours: 125,000 hours.

U.S. Office of Personnel Management.
Kathleen M. McGettigan,
Acting Director.

[FR Doc. 2017-17763 Filed 8-21-17; 8:45 am]

BILLING CODE 6325-46-P